ENVIRONMENTAL PROTECTION AGENCY

40 CFR Part 60

[EPA-HQ-OAR-2023-0072; EPA-HQ-OAR-2022-0730; FRL-12032-01-OAR]

RIN 2060-AV09; 2060-AV71

New Source Performance Standards; Incorporation by Reference; Correction

AGENCY: Environmental Protection Agency (EPA).

ACTION: Final rule; correction.

SUMMARY: The Environmental Protection Agency (EPA) finalized multiple actions with incorporation by reference (IBR) in separate final rules that amended the same centralized IBR section. The amendatory instructions for that section were drafted based on a different publication order than the ultimate publication order of the affected rules. This rule corrects the instructions allowing Office of the Federal Register (OFR) editors to codify the amendments from each rule.

DATES: The corrections in instructions 1 and 2 are effective July 8, 2024, and the corrections in instructions 3 and 4 are effective July 15, 2024.

FOR FURTHER INFORMATION CONTACT: Muntasir Ali, Sector Policies and Program Division (D243-05), Office of Air Quality Planning and Standards, U.S. Environmental Protection Agency, P.O. Box 12055, Research Triangle Park, North Carolina, 27711; telephone number: (919) 541-0833; email address: ali.muntasir@epa.gov.

SUPPLEMENTARY INFORMATION: The EPA published two final rules, 89 FR 39798 (May 9, 2024) and 89 FR 42932 (May 16, 2024), that each amended 40 CFR 60.17, the centralized IBR section for 40 CFR part 60. The amendatory instructions were drafted with the assumption that the two rules would publish in the reverse order. Given the order in which they published, if OFR editors were to effectuate the instructions, the editors would revise paragraphs other than the ones intended on July 8, 2024 (the effective date of the first rule), and July 15, 2024 (the effective date of the second rule), and would be unable to carry out an instruction in the second rule. This rule corrects the instructions allowing OFR editors to codify the amendments from each rule.

Corrections

I. As of July 8, 2024, in FR Doc. 2024-09233 at 89 FR 39798 in the Federal Register of Thursday May 9, 2024, make the following corrections:

§ 60.17 [Corrected]

1. On page 40027, in the second column, in amendment 2, correct the text of instruction 2.a. to read “Revising paragraphs (d)(1), (g)(15) and (16), (h)(37), (42), (46), (143), (202), and (208), the introductory text of paragraph (i);”

2. On page 40027, in the third column, in § 60.17(h):

a. Correct “(38)” to read “(37)”;

b. Correct “(43)” to read “(42)”;

c. Correct “(47)” to read “(46)”;

d. Correct “(145)” to read “(143)”;

e. Correct “(206)” to read “(202)”; and

f. Correct “(212)” to read “(208)”.

II. As of July 15, 2024, in FR Doc. 2024-07002 at 89 FR 42932 in the Federal Register of Thursday May 16, 2024, make the following corrections:

§ 60.17 [Corrected]

3. On page 43067, in the second column, in amendment 2:

a. Correct instruction 2.c. to read “Revising and republishing paragraph (k).”; and

b. Remove instruction 2.d.

4. On page 43068, in the first column, in § 60.17, correct “(j)” to read “(k)”.

Joseph Goffman,
Assistant Administrator, Office of Air and Radiation.

[FR Doc. 2024-14407 Filed 7-3-24; 8:45 am]

BILLING CODE 6560-50-P